OFFICE OF SCIENCE AND TECHNOLOGY POLICY

Nanomaterials and Human Health & Instrumentation, Metrology, and Analytical Methods Workshop: Public Meeting

ACTION: Notice of public meeting.

SUMMARY: The National Nanotechnology Coordination Office (NNCO), on behalf of the Nanoscale Science, Engineering, and Technology (NSET) Subcommittee of the Committee on Technology, National Science and Technology Council (NSTC), will hold a workshop on November 17-18, 2009, to provide an open forum to discuss the state-of-the-art of the science related to environmental, health, and safety aspects of nanomaterials in two areas: human health and instrumentation and metrology. Nanomaterials and Human Health & Instrumentation, Metrology, and Analytical Needs are two of the five environmental, health, and safety research categories identified in the NSET Subcommittee document Strategy for Nanotechnology-Related Environmental, Health, and Safety Research (http://www.nano.gov/NNI_EHS_Research_Strategy.pdf), which was released February 14, 2008.

DATES: The public meeting will be held on Tuesday, November 17, 2009 from 8:30 a.m. until 5 p.m. and on Wednesday, November 18, 2009 from 8:30 a.m. until 3:30 p.m.

ADDRESSES: The public meeting will be held at the Holiday Inn Rosslyn-Key Bridge, 1900 N. Fort Myer Drive, Arlington, VA 22209 (Metro stop: Rosslyn on the Orange and Blue lines). For directions, please see www.holidayinn.com.

Registration: Due to space limitations, pre-registration for the workshop is required. People interested in attending the workshop should register online at http://nano.gov/html/meetings/humanhealth/register.html. Written notices of participation by e-mail should be sent to humanhealth@nnco.nano.gov. Written notices also may be mailed to the Human Health & IMA Workshop, c/o NNCO, 4201 Wilson Blvd., Stafford II, Suite 405, Arlington, VA 22230. Registration is on a first-come, first-served basis. Registration will close on November 13, 2009 at noon EST.

Those interested in presenting 3-5 minutes of public comments at the meeting also should register at http://nano.gov/html/meetings/humanhealth/register.html. Written or electronic comments should be submitted by e-mail to humanhealth@nnco.nano.gov until December 1, 2009.

Information about the meeting, including the agenda, is posted at http://www.nano.gov.

The main sessions will be Web-cast. Please see http://nano.gov/html/meetings/humanhealth/ for more information.

FOR FURTHER INFORMATION CONTACT: For information regarding this Notice, please contact Heather Evans or Liesl Heeter, National Nanotechnology Coordination Office. Telephone (703) 292-4533 or (703) 292-7916. E-mail: humanhealth@nnco.nano.gov.

SUPPLEMENTARY INFORMATION: Human Health and Instrumentation and Metrology research are used to guide efforts to improve environmental, health, and safety (EHS) protection with regard to nanoscale engineered materials and to monitor trends and progress. The purpose of this workshop is to engage in an active discussion and learn more about the state-of-the-art in (1) Nanomaterials and Human Health and (2) Instrumentation, Metrology, and Analytical Methods by discussing the state of the science to assess research progress, provide insight into gaps and barriers to progress, identify missing components, and suggest milestones to chart progress and next steps as input to the Federal Government's effort to adaptively manage its nanoEHS research strategy, and build dialogue and strengthen collaborations.

M. David Hodge,
OSTP, Operations Manager.

[FR Doc. E9-26263 Filed 10-29-09; 8:45 am]

BILLING CODE P